DEPARTMENT OF COMMERCE

National Oceanic and Atmospheric Administration

[I.D.121103B]

Endangered Species; File No. 1448

AGENCY: National Marine Fisheries Service (NMFS), National Oceanic and Atmospheric Administration (NOAA), Commerce.

ACTION: Issuance of permit.

SUMMARY: Notice is hereby given that Northeast Fisheries Science Center, National Marine Fisheries Service, 166 Water Street, Woods Hole, MA 02543-1097 has been issued a permit to take loggerhead (Caretta caretta), leatherback (Dermochelys coriacea), Kemp's ridley (Lepidochelys kempii), green (Chelonia mydas), and hawksbill (Eretmochelys imbricata) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371.

FOR FURTHER INFORMATION CONTACT: Patrick Opay, (301)713-1401 or Sarah Wilkin, (301)713-2289.

SUPPLEMENTARY INFORMATION: On October 14, 2003, notice was published in the Federal Register (68 FR 59163) that a request for a scientific research permit to take loggerhead, leatherback, Kemp's ridley, green, and hawksbill sea turtles had been submitted by the above-named organization. The requested permit has been issued under the authority of the Endangered Species Act of 1973, as amended (ESA; 16 U.S.C. 1531 et seq.) and the regulations governing the taking, importing, and exporting of endangered and threatened species (50 CFR parts 222-226).

The applicant will handle, measure, flipper tag, scan for Passive Integrated Transponder (PIT) tags, biopsy sample and photograph a total of 1,500 loggerhead, 50 green, 250 leatherback and 50 hawksbill sea turtles and handle, measure, flipper tag, scan for PIT tags and photograph a total of 50 Kemp's ridley sea turtles over the duration of the permit. Seventy-five of the loggerheads and 20 of the Kemp's ridleys will also be dip-netted. This research will be conducted on animals that have been already incidentally captured in commercial fisheries operating in state waters and the Exclusive Economic Zone in the Northwest Atlantic Ocean. The purpose of the research is to determine the size and composition of populations of sea turtles found in the commercial fishing areas of the Northwest Atlantic Ocean and to establish individual identities of turtles which will permit subsequent determination of growth rates, possible stock origins and movement patterns. The research will contribute to the understanding of the pelagic ecology of these species, permit more complete models of their population dynamics, and allow more reliable assessments of commercial fishery impacts.

Issuance of this permit, as required by the ESA, was based on a finding that such permit (1) was applied for in good faith, (2) will not operate to the disadvantage of the endangered species which is the subject of this permit, and (3) is consistent with the purposes and policies set forth in section 2 of the ESA.

Dated: January 14, 2003.
Carrie W. Hubard,
Acting Chief, Permits, Conservation and Education Division, Office of Protected Resources, National Marine Fisheries Service.

[FR Doc. 04-1482 Filed 1-22-04; 8:45 am]

BILLING CODE 3510-22-S